Proclamation 8939 of March 1, 2013

100th Anniversary of the United States Department of Labor

By the President of the United States of America

A Proclamation

On March 4, 1913, President William Howard Taft signed a bill establishing the United States Department of Labor—an agency charged with promoting the welfare of American workers and ensuring their efforts are rewarded with fair wages and real protections. After decades of struggle by labor leaders and ordinary citizens, the Department took up the cause of justice in the workplace and lifted it to the highest halls of government.

Over the course of a century, the Department of Labor has fought to secure strong safeguards for workers and their families. It helped lay the cornerstones of middle class security, from the 40-hour work week and the minimum wage to family leave and pensions. As the agency once led by our Nation's first female Cabinet Secretary, the Department has broken down barriers to equal opportunity in the workplace. And for decades, it has improved worker safety and health and aggressively combated child labor at home and abroad.

Today, the Department of Labor is working to restore the basic bargain that built our country: that no matter what you look like or where you come from, if you work hard and meet your responsibilities, you can get ahead. It is forging new ladders of opportunity so a generation of workers can get the 21st century skills and training they need. And to preserve a century's progress in labor rights, the Department will continue to ensure hardworking Americans always have a voice in government and on the job.

On this centennial, we recognize the dedicated public servants at the Department of Labor who have helped move our country forward, and we reaffirm our commitment to giving America's workers the chance to build a brighter future for themselves and their families.

NOW, THEREFORE, I, BARACK OBAMA, President of the United States of America, by virtue of the authority vested in me by the Constitution and the laws of the United States, do hereby proclaim March 4, 2013, as the 100th Anniversary of the United States Department of Labor. I call upon all Americans to observe this day with appropriate programs, ceremonies, and activities that recognize the United States Department of Labor for upholding dignity in our workplaces and our way of life.

IN WITNESS WHEREOF, I have hereunto set my hand this first day of March, in the year of our Lord two thousand thirteen, and of the Independence of the United States of America the two hundred and thirty-seventh.

[FR Doc. 2013-05396

Filed 3-5-13; 11:15 am]

Billing code 3295-F3